DEPARTMENT OF DEFENSE

Office of the Secretary

[Docket ID DoD-2015-OS-0079]

Privacy Act of 1974; System of Records

AGENCY: Office of the Secretary of Defense, DoD.

ACTION: Notice to alter a system of records.

SUMMARY: The Office of the Secretary of Defense proposes to alter a system of records notice DWHS E03, entitled “Security Review Index File.” This system is used to manage the prepublication and security review processes for documents or materials before they are officially cleared for release outside of the DoD through a tracking application that provides the current status of each case and statistical data.

DATES: Comments will be accepted on or before September 10, 2015. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a(r) of the Privacy Act, as amended, were submitted on July 30, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: August 6, 2015.
Aaron Siegel,
Alternate OSD Federal Register Liaison Officer, Department of Defense.

DWHS E03

System Name:

Security Review Index File (March 30, 2012, 77 FR 19266).

Changes:

* * * * *

System Name:

Delete entry and replace with “Security Review Tracking Application (SRTA).”

System Location:

Delete entry and replace with “Department of Defense, Defense Office of Prepublication and Security Review, 1155 Defense Pentagon, Washington, DC 20301-1155.”

Categories of Individuals Covered by the System:

Delete entry and replace with “DoD personnel (military and civilian) submitting requests for prepublication review of official information considered for public release and members of the public (former DoD personnel) requesting a review of material prior to submission for publication.”

Categories of Records in the System:

Delete entry and replace with “Name, personal phone number(s) (home/cell), personal email address, home mailing address, date of request, case number, and title/subject of the material submitted for review.”

Authority for Maintenance of the System:

Delete entry and replace with “10 U.S.C. 113, Secretary of Defense; 22 CFR part 125.4, Exemptions of General Applicability,(b)(13); DoD Directive 5230.09, Clearance of DoD Information for Public Release; and DoD Instruction 5230.29, Security and Policy Review of DoD Information for Public Release.”

Purpose(s):

Delete entry and replace with “To manage the prepublication and security review processes for documents or materials before they are officially cleared for release outside of the DoD through a tracking application that provides the current status of each case and statistical data.”

Routine Uses of Records Maintained in the System Including Categories of Users and the Purposes of Such Uses:

Delete entry and replace with “In addition to those disclosures generally permitted under 5 U.S.C. 552a(b) of the Privacy Act of 1974, as amended, these records contained therein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD blanket routine uses can be found online at: http://dpcld.defense.gov/Privacy/SORNsIndex/BlanketRoutineUses.aspx”

Policies and Practices for Storing, Retrieving, Accessing, Retaining, and Disposing of Records in the System:

* * * * *

Retrievability:

Delete entry and replace with “Name, case number, title/subject of material submitted, and date of request.”

Safeguards:

Delete entry and replace with “Paper records are accessed only by officials with a need to know and appropriate security clearance in accordance with assigned duties. Electronic records require a Common Access Card (CAC) to access and are further protected by using a Personal Identification Number (PIN) with access limited to those individuals who have a need to know. Records are stored in a secure facility with full time guards in rooms requiring specific authority to access.”

Retention and Disposal:

Delete entry and replace with “Records are destroyed after 15 years.”

System Manager(s) and Address:

Delete entry and replace with “Chief, Defense Office of Prepublication and Security Review, 1155 Defense Pentagon, Washington, DC 20301-1155.”

Notification Procedure:

Delete entry and replace with “Individuals seeking to determine whether information about themselves is contained in this system of records should address written inquiries to Department of Defense, Defense Office of Prepublication and Security Review, 1155 Defense Pentagon, Washington, DC 20301-1155.

Written requests should include the case number (if available), date of request, title/subject of document submitted, or author's name.”

Record Access Procedures:

Delete entry and replace with “Individuals seeking access to information about themselves contained in this system of records should address written inquiries to Office of the Secretary of Defense/Joint Staff, Freedom of Information Requester Service Center, Office of Freedom of Information, 1155 Defense Pentagon, Washington, DC 20301-1155.

Signed, written requests should include the name and number of this system of records notice, the case number (if available), date of request, title/subject of submitted document, or author's name.”

* * * * *

Record Source Categories:

Delete entry and replace with “Individual.”

* * * * *

[FR Doc. 2015-19654 Filed 8-10-15; 8:45 am]

BILLING CODE 5001-06-P